DEPARTMENT OF JUSTICE

Antitrust Division

Notice Pursuant to the National Cooperative Research and Production Act of 1993—AAF Association, Inc.

Notice is hereby given that, on September 17, 2001, pursuant to Section 6(a) of the National Cooperative Research Production Act of 1993, 15 U.S.C. 4301 et seq. (“the Act”), AAF Association, Inc. has filed written notifications simultaneously with the Attorney General and the Federal Trade Commission disclosing changes in its membership status. The notifications were filed for the purpose of extending the Act's provisions limiting the recovery of antitrust plaintiffs to actual damages under specified circumstances. Specifically, Informix Software, Inc., Lenexa, KS has been added as a party to this venture.

No other changes have been made in either the membership or planned activity of the group research project. Membership or planned activity of the group research project. Membership in this group research project remains open, and AAF Association, Inc. intends to file additional written notification disclosing all changes in membership.

On March 28, 2000, AAF Association, Inc. filed its original notification pursuant to Section 6(a) of the Act. The Department of Justice published a notice in the Federal Register pursuant to Section 6(b) of the Act on June 29, 2000 (65 FR 40127).

The last notification was filed with the Department on June 19, 2001. A notice was published in the Federal Register purusuant to Section 6(b) of the Act on July 18, 2001 (66 FR 37491).

Constance K. Robinson,
Director of Operations, Antitrust Division.

[FR Doc. 01-25882 Filed 10-12-01; 8:45 am]

BILLING CODE 4410-11-M